DEPARTMENT OF THE INTERIOR

National Park Service

[N6929; NPS-WASO-NAGPRA-NPS0042000; PPWOCRADN0-PCU00RP14.R50000]

Notice of Intended Repatriation Amendment: Indianapolis Museum of Art at Newfields, Indianapolis, IN

AGENCY: National Park Service, Interior.

ACTION: Notice; amendment.

SUMMARY: In accordance with the Native American Graves Protection and Repatriation Act (NAGPRA), the Indianapolis Museum of Art at Newfields has amended a notice of intended repatriation published in the Federal Register on December 16, 2025. This notice amends the Indian Tribes or Native Hawaiian organizations with cultural affiliation.

DATES: Repatriation of the cultural items in this notice may occur on or after March 13, 2026.

ADDRESSES: Send additional, written requests for repatriation of the cultural items in this notice to Jennifer Gallatin Rigsby, Indianapolis Museum of Art at Newfields, 4000 Michigan Road, Indianapolis, IN 46208, email jrigsby@discovernewfields.org.

SUPPLEMENTARY INFORMATION: This notice is published as part of the National Park Service's administrative responsibilities under NAGPRA. The determinations in this notice are the sole responsibility of the Indianapolis Museum of Art at Newfields, and additional information on the determinations in this notice, including the results of consultation, can be found in the summary or related records. The National Park Service is not responsible for the determinations in this notice.

Amendment

This notice amends the determination of cultural affiliation published in a notice of intended repatriation in the Federal Register (FR 2025-22903, December 16, 2025). Repatriation of the cultural items in the original notice of intended repatriation has not occurred.

Determinations

The Indianapolis Museum of Art at Newfields has determined that:

• There is a reasonable connection between the cultural items described in the original notice and the Tule River Indian Tribe of the Tule River Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the Indianapolis Museum of Art at Newfields must determine the most appropriate requestor prior to repatriation. Requests for joint repatriation of the cultural items are considered a single request and not competing requests. The Indianapolis Museum of Art at Newfields is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02712 Filed 2-10-26; 8:45 am]

BILLING CODE 4312-52-P